DEPARTMENT OF LABOR

Mine Safety and Health Administration

Petitions for Modification

The following parties have filed petitions to modify the application of existing safety standards under section 101(c) of the Federal Mine Safety and Health Act of 1977.

1. Aracoma Coal Company

[Docket No. M-2000-170-C]

Aracoma Coal Company, P.O. Box 470, Stollings, West Virginia 25646 has filed a petition to modify the application of 30 CFR 75.1700 (oil and gas wells) to its Alma Mine No. 1 (I.D. No. 46-08801) located in Logan County, West Virginia. The petitioner proposes to plug and mine through gas wells using specific procedures outlined in this petition for modification. The petitioner asserts that the proposed alternative method would provide at least the same measure of protection as the existing standard.

2. Canyon Fuel Company, LLC

[Docket No. M-2000-171-C]

Canyon Fuel Company, P.O. Box 1029, Wellington, Utah 84542 has filed a petition to modify the application of 30 CFR 75.350 (air courses and belt haulage entries) to its Dugout Canyon Mine (I.D. No. 46-01890) located in Carbon County, Utah. The petitioner requests a modification of the existing standard to permit the belt haulage entry to be used at the return entry during two-entry longwall panel development and as an intake entry to provide additional face ventilation during longwall panel retreat mining. The petitioner proposes to install a low-level carbon monoxide monitoring system in all sections where the belt entry is used as either an intake or return air course and in the primary intake entries. The petitioner asserts that application of the existing standard would result in a diminution of safety to the miner and that the proposed alternative method would provide at least the same measure of protection as the existing standard.

3. Canyon Fuel Company, LLC

[Docket No. M-2000-172-C]

Canyon Fuel Company, LLC, P.O. Box 1029, Wellington, Utah 84542 has filed a petition to modify the application of 30 CFR 75.352 (return air courses) to its Dugout Canyon Mine (I.D. No. 46-01890) located in Carbon County, Utah. The petitioner requests a modification of the existing standard to permit the belt haulage entry to be used at the return entry during two-entry longwall panel development and as an intake entry to provide additional face ventilation during longwall panel retreat mining. The petitioner proposes to install a low-level carbon monoxide monitoring system in all sections where the belt entry is used as either an intake or return air course and in the primary intake entries. The petitioner asserts that application of the existing standard would result in a diminution of safety to the miner and that the proposed alternative method would provide at least the same measure of protection as the existing standard.

4. ASARCO Incorporated

[Docket No. M-2000-010-M]

ASARCO Incorporated, P.O. Box 460, Strawberry Plains, Tennessee 37871 has filed a petition to modify the application of 30 CFR 57.11055 (inclined escapeways) which requires that vertical shafts over 300 feet be equipped with an emergency hoisting facility. The petition applies to the Coy Mine (I.D. No. 40-00166) located in Jefferson County, Tennessee. The petitioner requests a modification of the existing standard for the purpose of complying with Program Policy Letter P00-IV-5 and 30 CFR 57.11050(a), which requires that all mines must have two continuously functional escapeways at all times. The petitioner proposes to use a vertical ladderway as an emergency escapeway, and as a secondary means of escape within the primary escapeway in the event of an extended power failure or repair to a damaged hoist, to avoid hazards that are created by repeated unnecessary mine evacuations. The petitioner asserts that application of PPL P00-IV-5 and 30 CFR 57.11050(a) would result in a diminution of safety to the miners and that the proposed alternative method would provide at least the same measure of protection as the existing standard.

5. New Tech Oil Company

[Docket No. M-2001-001-M]

New Tech Oil Company, P.O. Box 68, Kaycee, Wyoming 82639 has filed a petition to modify the application of 30 CFR 57.11050(a) (escapeways and refuges) to its North Tisdale Shaft No. 1 Mine (I.D. No. 48-01147) located in Johnson County, Wyoming. The petitioner requests a modification of the existing standard to permit its man cage hoist and ladder man-way to be used as two separate escapeways. The petitioner asserts that the proposed alternative method would provide at least the same measure of protection as the existing standard.

6. New Tech Oil Company

[Docket No. M-2001-002-M]

New Tech Oil Company, P.O. Box 68, Kaycee, Wyoming 82639 has filed a petition to modify the application of 30 CFR 57.19054 (rope guides) to its North Tisdale Shaft No. 1 Mine (I.D. No. 48-01147) located in Johnson County, Wyoming. The petitioner proposes to use bridge strand wire rope in shafts as rope guides. The petitioner states that: (i) the locked coil rope is no longer produced in the United States; (ii) the three remaining manufacturers will not produce small quantities of the locked coil rope that is required for the Tech Oil Company's North Tisdale Shaft No. 1 Mine; and (iii) the bridge strand wire rope would be 1-¼ inches, 1 x 36 construction, structural strands. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before March 12, 2001. Copies of these petitions are available for inspection at that address.

Dated: February 1, 2001.
David L. Meyer,
Director, Office of Standards, Regulations, and Variances.

[FR Doc. 01-3377 Filed 2-8-01; 8:45 am]

BILLING CODE 4510-43-P